DEPARTMENT OF AGRICULTURE

Food Safety and Inspection Service

[Docket No. 00-002N]

Codex Alimentarius: 4th Session of the Codex Committee on Milk and Milk Products

AGENCY: Food Safety and Inspection Service, USDA.

ACTION: Notice of public meeting, request for comments.

SUMMARY: The Agricultural Marketing Service and the Food Safety and Inspection Service (FSIS), U.S. Department of Agriculture; and the Food and Drug Administration, U.S. Department of Health and Human Services, are sponsoring a public meeting on February 15, 2000, to provide information and receive public comments on agenda items that will be discussed at the 4th Session of the Codex Committee on Milk and Milk Products, which will be held in Wellington, New Zealand, on February 28-March 3, 2000.

DATES: The public meeting is scheduled for Tuesday, February 15, 2000, from 9:00 a.m. to 12:00 noon.

ADDRESSES: The public meeting will be held in Room 0745, South Agriculture Building, U.S. Department of Agriculture, 14th Street and Independence Avenue, SW, Washington, DC 20250. To receive copies of the documents referenced in the notice contact the FSIS Docket Clerk, U.S. Department of Agriculture, Food Safety and Inspection Service, Room 102, Cotton Annex, 300 12th Street, SW, Washington, DC 20250-3700. The documents will also be accessible via the World Wide Web at the following address: http://www.fao.org/waicent/faoinfo/economic/esn/codex/ccmmp4/MM00 01E.htm. When submitting comments, send an original and two copies to the FSIS Docket Clerk and reference the Docket # 00-002N and the appropriate document number. All comments submitted will be available for public inspection in the Docket Clerk's Office between 8:30 a.m. and 4:30 p.m., Monday through Friday.

FOR FURTHER INFORMATION CONTACT: Patrick J. Clerkin, Associate U.S. Manager for Codex, FSIS, Room 4861, South Agriculture Building, 1400 Independence Avenue SW., Washington, DC 20250-3700, telephone (202) 205-7760; Fax (202) 720-3157. Persons requiring a sign language interpreter or other special accommodations should notify Patrick J. Clerkin, telephone (202) 205-7760; Fax (202) 720-3157.

SUPPLEMENTARY INFORMATION:

Background

The Codex Alimentarius Commission (Codex) was established in 1962 by two United Nations organizations, the Food and Agriculture Organization and the World Health Organization. Codex is the major international organization for encouraging fair international trade in food and protecting the health and economic interests of consumers. Through adoption of food standards, codes of practice and other guidelines developed by its committees, and by promoting their adoption and implementation by governments, Codex seeks to ensure that the world's food supply is sound, wholesome, free from adulteration, and correctly labeled.

The Codex Committee on Milk and Milk Products was established to elaborate codes and standards for Milk and Milk Products. The Government of New Zealand hosts this committee and will chair the committee meeting.

Issues to be Discussed at the Public Meeting

The following specific issues will be discussed during the public meeting:

1. Matters referred by the Codex Alimentarius Commission and other Codex committees.

2. Draft Standard for Unripened Cheeses including Fresh Cheese at Step 7.

3. Review of the Proposed Draft and Draft Revised Standards: Cream; Fermented Milk Products; Dairy Spreads; Processed Cheese; Individual Cheeses; Whey Powders; and Edible Casein Products; at Step 4.

4. Heat Treatment Definitions.

5. Model Export Certificate for Milk Products.

6. Review of Proposals for New Standards for “Parmesan” and “Cheese Speciality”.

Each issue listed will be fully described in documents distributed, or to be distributed, by the New Zealand Secretariat to the Meeting. Members of the public may access or request copies of these documents (see ADDRESSES).

Additional Public Notification

Public awareness of all segments of rulemaking and policy development are important. Consequently, in an effort to better ensure that minorities, women, and persons with disabilities are aware of this public meeting, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: January 19, 2000.
F. Edward Scarbrough,
U.S. Manager for Codex Alimentarius.

[FR Doc. 00-1662 Filed 1-21-00; 8:45 am]

BILLING CODE 3410-DM-P